DEPARTMENT OF COMMERCE

National Oceanic and Atmospheric Administration

RIN 0648-XA576

Marine Mammals; File No. 16472

AGENCY: National Marine Fisheries Service (NMFS), National Oceanic and Atmospheric Administration (NOAA), Commerce.

ACTION: Notice; issuance of permit.

SUMMARY: Notice is hereby given that a permit has been issued to the NMFS Southwest Fisheries Science Center, Antarctic Ecosystem Research Division, La Jolla, California, (Responsible Party: George Watters, PhD, Director) to take marine mammals for scientific research.

ADDRESSES: The permit and related documents are available for review upon written request or by appointment in the following offices:

Permits, Conservation and Education Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Tammy Adams or Amy Sloan, (301) 427-8401.

SUPPLEMENTARY INFORMATION: On July 20, 2011, notice was published in the Federal Register (76 FR 43266) that a request for a permit to conduct research on Antarctic fur seals (Arctocephalus gazella), southern elephant seals (Mirounga leonina), crabeater seals (Lobodon carcinophagus), leopard seals (Hydrurga leptonyx), Ross seals (Ommatophoca rossii), and Weddell seals (Leptonychotes weddellii) in the South Shetland Islands, Antarctica, had been submitted by the above-named applicant. The requested permit has been issued under the authority of the Marine Mammal Protection Act of 1972, as amended (16 U.S.C. 1361 et seq.), and the regulations governing the taking and importing of marine mammals (50 CFR part 216).

The permit authorizes capture, tissue sampling, marking and instrumentation of seals on ice, and ground and aerial surveys of seals on ice and in waters surrounding the South Shetland Islands, Antarctica. Tissue samples from captured seals and salvaged from cetacean and pinniped carcasses may be imported from the Antarctic. The permit is valid for five years.

In compliance with the National Environmental Policy Act of 1969 (42 U.S.C. 4321 et seq.), a final determination has been made that the activity proposed is categorically excluded from the requirement to prepare an environmental assessment or environmental impact statement.

Dated: September 22, 2011.
P. Michael Payne,
Chief, Permits, Conservation and Education Division, Office of Protected Resources, National Marine Fisheries Service.

[FR Doc. 2011-24805 Filed 9-26-11; 8:45 am]

BILLING CODE 3510-22-P